ENVIRONMENTAL PROTECTION AGENCY

40 CFR Part 52

Approval and Promulgation of Implementation Plans

CFR Correction

In Title 40 of the Code of Federal Regulations, Protection of Environment, Part 52 (§ 52.2020 to end of part 52), revised as of July 1, 2020, on page 15, the entry for 127.702 is reinstated to read as follows:

§ 52.2020 Identification of plan.

* * * * *

(c) * * *

(1) * * *

State citation | Title/subject | State effective date | EPA approval date | Additional explanation/ § 52.2063 citation
Title 25—Environmental Protection Article III—Air Resources
* * * * * * *
Chapter 127—Construction, Modification, Reactivation, and Operation of Sources
* * * * * * *
Subchapter I—Plan Approval and Operating Permit Fees
Section 127.702 | Plan approval fees | 11/26/94 | 7/30/96, 61 FR 39597 | (c)(110)(i)(C).
* * * * * * *

[FR Doc. 2021-11116 Filed 5-24-21; 8:45 am]

BILLING CODE 0099-10-D